DEPARTMENT OF ENERGY

Environmental Management Site-Specific Advisory Board, Idaho National Laboratory

AGENCY: Department of Energy.

ACTION: Notice of open meeting: correction.

SUMMARY: On October 28, 2011, the Department of Energy (DOE) published a notice of open meeting announcing a meeting on November 14, 2011, of the Environmental Management Site-Specific Advisory Board, Idaho National Laboratory (76 FR 66917). This document makes a correction to that notice.

FOR FURTHER INFORMATION CONTACT: Robert L. Pence, Federal Coordinator, Department of Energy, Idaho Operations Office, 1955 Fremont Avenue, MS-1203, Idaho Falls, Idaho 83415. Phone (208) 526-6518; Fax (208) 526-8789 or email: pencerl@id.doe.gov or visit the Board's Internet home page at: http://inlcab.energy.gov/.

Correction

In the Federal Register of October 28, 2011, in FR Doc. 2011-27921, on page 66917, please make the following correction:

In that notice under DATES, second column, second paragraph, the meeting date was incorrectly stated as Tuesday, November 14, 2011. The statement should be changed to Tuesday, November 15, 2011.

Issued at Washington, DC, on October 28, 2011.
Carol A. Matthews,
Committee Management Officer.

[FR Doc. 2011-28503 Filed 11-2-11; 8:45 am]

BILLING CODE 6450-01-P